DEPARTMENT OF ENERGY

Federal Energy Regulatory Commission

18 CFR Parts 2, 3b, 4, 5, 8, 9, 11, 16, 24, 32, 33, 34, 35, 39, 45, 46, 152, 153, 156, 157, 385, and 388

[Docket No. RM10-26-000; Order No. 737]

Technical Corrections to Commission's Regulations

Issued July 14, 2010.

AGENCY: Federal Energy Regulatory Commission.

ACTION: Final rule; technical correction.

SUMMARY: The Commission is issuing this Final Rule to make minor changes to its regulations. This Final Rule revises a number of references that have become outdated for various reasons. Generally, these changes add or delete language in the current regulations that: Eliminate obsolete information; incorporate by reference updated electronic filing options; and correct incorrect cites.

DATES: Effective Date: The rule will become effective July 26, 2010.

FOR FURTHER INFORMATION CONTACT:

Wilbur Miller, Federal Energy Regulatory Commission, 888 First Street, NE., Washington, DC 20426, (202) 502-8953.

Christopher Cook, Federal Energy Regulatory Commission, 888 First Street, NE., Washington, DC 20426, (202) 502-8102.

SUPPLEMENTARY INFORMATION:

Before Commissioners: Jon Wellinghoff, Chairman; Marc Spitzer, Philip D. Moeller, and John R. Norris.

Technical Corrections to Commission's Regulations

Docket No. RM10-26-000

Order No. 737

Final Rule

Issued July 14, 2010.

I. Introduction

1. This Final Rule corrects a number of the Commission's regulations to bring them up to date or make them consistent with other provisions. The revisions are intended to be ministerial and/or informational in nature, as explained below.

II. Discussion

A. Minor Revisions Correcting Outdated Nomenclature, Addresses, and Provisions

2. Parts 3b, 46, and 152 of Title 18 of the Code of Federal Regulations, this Final Rule corrects all references, where appropriate, to the “FPC” (Federal Power Commission; the predecessor to the Federal Energy Regulatory Commission) to read “FERC” or “Federal Energy Regulatory Commission.” Also in these sections, multiple obsolete or outdated references relating to the FERC organizational structure are replaced or updated as appropriate. This Final Rule also revises incorrect references to a former FERC address and deletes regulatory provisions that no longer exist. This Final Rule also removes certain nomenclature to be consistent with other provisions of our regulations. See new 18 CFR 4.12 and 4.22 (2010).

B. Minor Revisions Incorporating by Reference Web Site Language and Removing References to Paper Copies as Part of the Commission's Filing Procedures

3. For Parts 2, 4, 5, 8, 11, 16, 24, 32, 34, 45, 46, 152, 153, 156, 385, and 388, this Final Rule incorporates by reference the “how to file” requirements located on the Commission's Web site in order to reflect our current electronic filing options. These filing options are routinely modified to capture information and technology updates as well as updates to general filing procedures. In Part 2, a reference to multiple paper copies is replaced by a reference to updated filing procedures as posted on the Commission Web site. FERC now has paperless electronic filing options for nearly all documents submitted to the Commission and references to a certain number of paper copies have been revised.¹ Part 4 is revised to remove multiple references to “certified mail,” which is no longer a requirement. See new 18 CFR 4.4; 4.12; 4.22 (2010). Parts 9 and 156 are revised to remove a reference to paper copies as part of filing procedures and Part 157 is revised to remove a section related to outdated file formats. Part 388 replaces language that requires a “written statement” with “statement.” See new 18 CFR 3b.203(b) (2010).

¹ Although electronic submissions are encouraged, the Commission has posted a Quick Reference Guide to Paper Submissions at http://www.ferc.gov/docs-filing/efiling/filing.pdf.

C. Minor Revisions Removing Obsolete References to Filing Fees

4. Parts 32, 34, 45, 152, 156, and 157 are all revised by removing language referencing filing fees. These filing fees are no longer required by the Commission.

D. Minor Revisions Removing Obsolete References to Form of Notice

5. Parts 33, 34, and 39 are all revised by removing language referencing forms of notice. The notices for these filings are now included in the Combined Notice Process.

E. Minor Revisions Replacing Incorrect Order Number References

6. To correct prior typographical errors, Part 35 is revised by replacing multiple references to “Order 741” with “Order 714.”

III. Information Collection Statement

7. The Office of Management and Budget's (OMB) regulations require that OMB approve certain information collection requirements imposed by agency rule. 5 CFR Part 1320 (2010). This Final Rule contains no information reporting requirements, and is not subject to OMB approval.

IV. Environmental Analysis

8. The Commission is required to prepare an Environmental Assessment or an Environmental Impact Statement for any action that may have a significant adverse effect on the human environment.² This Final Rule is not such an action, and does not represent a major federal action having a significant adverse effect on the human environment under the Commission's regulations implementing the National Environmental Policy Act. Part 380 of the Commission's regulations lists exemptions to the requirement that an Environmental Analysis or Environmental Impact Statement be done. Included is an exemption for procedural, ministerial or internal administrative actions. 18 CFR 380.4(1) and (5). This Final Rule is therefore exempt.

² Regulations Implementing the National Environmental Policy Act, Order No. 486, 52 FR 47897 (Dec. 17, 1987), FERC Stats. & Regs., Regulations Preambles 1986-1990 ¶ 30,783 (1987).

V. Regulatory Flexibility Act Certification

9. The Regulatory Flexibility Act of 1980 (RFA) ³ generally requires a description and analysis of final rules that will have significant economic impact on a substantial number of small entities. This Final Rule concerns a matter of internal agency procedure and the Commission therefore certifies that it will not have such an impact. An analysis under the RFA is not required.

³ 5 U.S.C. 601-12.

VI. Document Availability

10. In addition to publishing the full text of this document in the Federal Register, the Commission provides all interested persons an opportunity to view and/or print the contents of this document via the Internet through the Commission's Web site (http://www.ferc.gov) and in the Commission's Public Reference Room during normal business hours (8:30 a.m. to 5 p.m. Eastern time) at 888 First Street, NE., Room 2A, Washington, DC 20426.

11. From the Commission's Web site on the Internet, this information is available in the Commission's document management system, eLibrary. The full text of this document is available on eLibrary in PDF and Microsoft Word format for viewing, printing, and/or downloading. To access this document in eLibrary, type the docket number excluding the last three digits of this document in the docket number field.

12. User assistance is available for eLibrary and the Commission's Web site during normal business hours from FERC Online Support at 1-866-208-3676 (toll free) or (202) 502-6652 (e-mail at FERCOnlineSupport@FERC.gov), or the Public Reference Room at (202) 502-8371, TTY 202-502-8659 (e-mail at public.referenceroom@ferc.gov).

VII. Effective Date and Congressional Notification

13. These regulations are effective on the date of publication in the Federal Register. In accordance with 5 U.S.C. 553(d)(3) (2006), the Commission finds that good cause exists to make this Final Rule effective immediately. It makes minor revisions with respect to matters of internal operations and is unlikely to affect the rights of persons appearing before the Commission. There is therefore no reason to make this rule effective at a later time.

14. The provisions of 5 U.S.C. 801 regarding Congressional review of final rules do not apply to this Final Rule, because this Final Rule concerns agency procedure and practice and will not substantially affect the rights of non-agency parties.

15. The Commission is issuing this Final Rule without a period for public comment. Under 5 U.S.C. 553(b), notice and comment procedures are unnecessary where a rulemaking concerns only agency procedure and practice, or where the agency finds that notice and comment is unnecessary. This rule concerns only matters of agency procedure and will not significantly affect regulated entities or the general public.

List of Subjects

18 CFR Part 2

Administrative practice and procedure, Electric power, Natural gas, Pipelines, Reporting and recordkeeping requirements.

18 CFR Part 3b

Privacy.

18 CFR Part 4

Administrative practice and procedure, Electric power, Reporting and recordkeeping requirements.

18 CFR Part 5

Administrative practice and procedure, Electric power, Reporting and recordkeeping requirements.

18 CFR Part 8

Electric power, Recreation and recreation areas, Reporting and recordkeeping requirements.

18 CFR Part 9

Electric power, Reporting and recordkeeping requirements.

18 CFR Part 11

Dams, Electric power, Indian lands, Public lands, Reporting and recordkeeping requirements.

18 CFR Part 16

Administrative practice and procedure, Electric power, Reporting and recordkeeping requirements.

18 CFR Part 24

Electric power, Reporting and recordkeeping requirements.

18 CFR Part 32

Electric utilities.

18 CFR Part 33

Electric utilities, Reporting and recordkeeping requirements, Securities.

18 CFR Part 34

Electric power, Reporting and recordkeeping requirements.

18 CFR Part 35

Electric power rates, Electric utilities, Reporting and recordkeeping requirements.

18 CFR Part 39

Administrative practice and procedure.

18 CFR Part 45

Electric utilities, Reporting and recordkeeping requirements.

18 CFR Part 46

Antitrust, Electric utilities, Holding companies, Reporting and recordkeeping requirements.

18 CFR Part 152

Natural gas, Reporting and recordkeeping requirements.

18 CFR Part 153

Exports, Imports, Natural gas, Reporting and recordkeeping requirements.

18 CFR Part 156

Administrative practice and procedure, Natural gas, Reporting and recordkeeping requirements.

18 CFR Part 157

Administrative practice and procedure, Natural gas, Reporting and recordkeeping requirements, Uniform system of accounts.

18 CFR Part 385

Administrative practice and procedure, Electric power, Penalties, Pipelines, Reporting and recordkeeping requirements.

18 CFR Part 388

Confidential business information, Freedom of information.

By the Commission.
Kimberly D. Bose,
Secretary.

In consideration of the foregoing, the Commission is amending parts 2, 3b, 4, 5, 8, 9, 11, 16, 24, 32, 33, 34, 35, 39, 45, 46, 152, 153, 156, 157, 385, and 388 of Chapter I, Title 18, Code of Federal Regulations, by making the following technical corrections:

PART 2—GENERAL POLICY AND INTERPRETATIONS

1. The authority citation for Part 2 continues to read as follows:

Authority: (Secs. 308, 309; 49 Stat. 858; 16 U.S.C. 825g, 825h; secs. 15, 16; 52 Stat. 829, 830; 15 U.S.C. 717n, 717o) [Order 211, 24 FR 1345, Feb. 21, 1959, as amended by Order 463, 37 FR 28054, Dec. 20, 1972; 38 FR 3192, Feb. 2, 1973; 44 FR 34941, June 18, 1979; 45 FR 21224, Apr. 1, 1980; Order 541, 57 FR 21733, May 22, 1992; Order 603, 64 FR 26603, May 14, 1999; Order 2002, 68 FR 51115, Aug. 25, 2003]

§ 2.1 [Amended]

2. In § 2.1, paragraphs (a) introductory text and (b), the phrase “mailing” is removed and the phrase “mailing or e-mailing” is added in its place.

§ 2.9 [Amended]

3. In § 2.9, paragraph (b), the phrase “the Federal Power Commission, Office of Public Information, Washington, DC 20426” is removed and the phrase “the Federal Energy Regulatory Commission, Washington, DC 20426” is added in its place.

§ 2.13 [Amended]

4. In § 2.13, paragraph (b), the phrase “the Office of Public Information, Federal Power Commission, Washington, DC 20426” is removed and the phrase “the Federal Energy Regulatory Commission, Washington, DC 20426” is added in its place.

§ 2.55 [Amended]

5. In § 2.55, paragraph (b)(4), the phrase “on electronic media pursuant to § 385.2011 of this chapter, accompanied by 7 paper copies” is removed and the phrase “in accordance with filing procedures posted on the Commission's Web site at http://www.ferc.gov.” is added in its place.

§ 2.57 [Amended]

6. In § 2.57, in the first sentence, the phrase “Federal Power Commission” is removed and the phrase “Federal Energy Regulatory Commission” is added in its place.

PART 3b—COLLECTION, MAINTENANCE, USE, AND DISSEMINATION OF RECORDS OF IDENTIFIABLE PERSONAL INFORMATION

7. The authority citation for Part 3b continues to read as follows:

Authority: Federal Power Act, as amended, sec. 309, 49 Stat. 858-859 (16 U.S.C. 825h); Natural Gas Act, as amended, sec. 16, 52 Stat. 830 (15 U.S.C. 717o); and Pub. L. 93-579 (88 Stat. 1896).

§ 3b.1 [Amended]

8. In § 3b.1, in the first sentence, the phrase “Federal Power Commission's” is removed and the phrase “Federal Energy Regulatory Commission's” is added in its place.

§ 3b.203 [Amended]

9-10. In § 3b.203, paragraph (b), the acronym “FPC” is removed and the acronym “FERC” is added in its place, and the phrase “specifically 18 CFR 3.207(e) and 3.228(d)” is removed, and in paragraph (c), the phrase “Director, Office of Personnel Programs” is removed and the phrase “Director, Human Resources Division” is added in its place.

§ 3b.221 [Amended]

11. In § 3b.221, paragraph (d)(2), the phrase “Federal Power Commission, 825 North Capitol Street, NE., Washington, DC 20426” is removed and the phrase “Federal Energy Regulatory Commission, 888 First Street, NE., Washington, DC 20426” is added in its place.

§ 3b.224 [Amended]

12. In § 3b.224, paragraph (c)(2), the phrase “Federal Power Commission, 825 North Capitol Street, NE., Washington, DC 20426” is removed and the phrase “Federal Energy Regulatory Commission, 888 First Street, NE., Washington, DC 20426” is added in its place.

PART 4—LICENSES, PERMITS, EXEMPTIONS, AND DETERMINATION OF PROJECT COSTS

13. The authority citation for Part 4 continues to read as follows:

Authority: 16 U.S.C. 791a-825r, 2601-2645; 42 U.S.C. 7101-7352.

§ 4.4 [Amended]

14. In § 4.4, the phrase “by certified mail” is removed, and the phrase “or if the States has not regulatory agency” is removed and the phrase “or if the State has no regulatory agency” is added in its place.

§ 4.12 [Amended]

15. In § 4.12, the phrase “by certified mail” is removed.

§ 4.22 [Amended]

16. In § 4.22, the phrase “by certified mail” is removed.

17-19. In § 4.32:

a. In paragraph (b)(1), the phrase “must submit to the Commission's Secretary for filing an original and eight copies of the application or petition” is removed and the phrase “must submit the application or petition to the Secretary of the Commission in accordance with filing procedures posted on the Commission's Web site at http://www.ferc.gov.” is added in its place;

b. In paragraph (b)(2), the phrase “must submit to the Commission's Secretary for filing an original and eight copies of the application” is removed and the phrase “must submit the application to the Secretary of the Commission in accordance with filing procedures posted on the Commission's Web site at http://www.ferc.gov.” is added in its place; and

c. In paragraph (e)(1)(i), the fifth sentence is revised to read as follows:

§ 4.32 Acceptance for filing or rejection; information to be made available to the public; requests for additional studies.

* * * * *

(e) * * *

(1) * * *

(i) * * * Deficiencies must be corrected by submitting the specified materials or information to the Secretary of the Commission within the time specified in the notification of deficiency in accordance with filing procedures posted on the Commission's Web site at http://www.ferc.gov.

* * * * *

PART 5—INTEGRATED LICENSE APPLICATION PROCESS

20. The authority citation for Part 5 continues to read as follows:

Authority: 16 U.S.C. 791a-825r, 2601-2645; 42 U.S.C. 7101-7352.

21. In § 5.3, revise paragraph (d)(2)(vi) to read as follows:

§ 5.3 Process selection.

* * * * *

(d) * * *

(2) * * *

(vi) State that respondents must submit comments to the Secretary of the Commission in accordance with filing procedures posted on the Commission's Web site at http://www.ferc.gov.

* * * * *

§ 5.5 [Amended]

22. In § 5.5, paragraph (b) introductory text, the phrase “with the Commission pursuant to the requirements of Subpart T of Part 385 of this chapter an original and eight copies of a letter” is removed and the phrase “with the Secretary of the Commission in accordance with filing procedures posted on the Commission's Web site at http://www.ferc.gov, a letter” is added in its place.

§ 5.6 [Amended]

23. In § 5.6, paragraph (a)(1), the phrase “with the Commission an original and eight copies” is removed and the phrase “with the Secretary of the Commission in accordance with filing procedures posted on the Commission's Web site at http://www.ferc.gov” is added in its place.

PART 8—RECREATIONAL OPPORTUNITIES AND DEVELOPMENT AT LICENSED PROJECTS

24. The authority citation for Part 8 continues to read as follows:

Authority: 5 U.S.C. 551-557; 16 U.S.C. 791a-825r; 42 U.S.C. 7101-7352.

§ 8.11 [Amended]

25. In § 8.11, paragraph (a)(1), the phrase “shall prepare with respect to each development within such project an original and two copies of FERC Form No. 80 prescribed by § 141.14 of this chapter and submit them to a the Commission pursuant to the requirements in the General Information portion of the form” is removed and the phrase “shall prepare with respect to each development within such project a FERC Form No. 80 and submit them to the Secretary of the Commission in accordance with filing procedures posted on the Commission's Web site at http://www.ferc.gov.” is added in its place.

PART 9—TRANSFER OF LICENSE OR LEASE OF PROJECT PROPERTY

26. The authority citation for Part 9 continues to read as follows:

Authority: Sec. 8, 41 Stat. 1068, sec. 309, 49 Stat. 858; 16 U.S.C. 801, 825h; Pub. L. 96—511, 94 Stat. 2812 (44 U.S.C. 3501 et seq.)

27. Section 9.10 is revised to read as follows:

§ 9.10 Filing.

Any licensee desiring to lease the project property covered by a license or any part thereof, where the lessee is granted the exclusive occupancy, possession, or use of project works for purposes of generating, transmitting, or distributing power, and the person, association, or corporation, State, or municipality desiring to acquire the project property by lease, must file the proposed lease together with the application in accordance with § 4.32(b)(1) of this chapter. The application and the Commission's action on it will, in general, be subject to the provisions of §§ 9.1 through 9.3.

PART 11—ANNUAL CHARGES UNDER PART I OF THE FEDERAL POWER ACT

28. The authority citation for Part 11 continues to read as follows:

Authority: 16 U.S.C. 791a-825r; 42 U.S.C. 7101-7352.

29. In § 11.6(i), the second sentence is revised to read as follows:

§ 11.6 Exemption of State and municipal licensees and exemptees.

* * * * *

(i) * * * The application must be filed with the Secretary of the Commission in accordance with filing procedures posted on the Commission's Web site at http://www.ferc.gov within the time allowed (by § 11.20) for the payment of the annual charges.” * * *

PART 16—PROCEDURES RELATING TO TAKEOVER AND RELICENSING OF LICENSED PROJECTS

30. The authority citation for Part 16 continues to read as follows:

Authority: 16 U.S.C. 791a-825r; 42 U.S.C. 7101-7352.

§ 16.6 [Amended]

31. In§ 16.6(b) introductory text, the phrase “must file with the Commission an original and fourteen copies of” is removed and the phrase “must file with the Secretary of the Commission in accordance with filing procedures posted on the Commission's Web site at http://www.ferc.gov” is added in its place.

PART 24—DECLARATION OF INTENTION

32. The authority citation for Part 24 continues to read as follows:

Authority: 16 U.S.C. 791a-825r; 44 U.S.C. 3501 et seq. ; 42 U.S.C. 7101-7352.

33. In § 24.1, revise the first sentence to read as follows:

§ 24.1 Filing.

A declaration of intention under the provisions of section 23(b) of the Act shall be filed with the Secretary of the Commission in accordance with filing procedures posted on the Commission's Web site at http://www.ferc.gov. * * *

* * * * *

PART 32—INTERCONNECTION OF FACILITIES

34. The authority citation for Part 32 is revised to read as follows:

Authority: 42 U.S.C. 7101-7352; E.O. No. 12,009, 3 CFR 1978 Comp., p. 142; 31 U.S.C. 9701; 16 U.S.C. 791a-825r; 16 U.S.C. 2601-2645 (1988).

35. In § 32.1, the section heading is revised as set forth below, and the phrase “shall be accompanied by the fee prescribed in Part 381 of this chapter and” is removed from the introductory text.

§ 32.1 Contents of the application.

* * * * *

36. Section 32.4 is revised to read as follows:

§ 32.4 Filing procedure.

All applications under Part 32 must be filed with the Secretary of the Commission in accordance with filing procedures posted on the Commission's Web site at http://www.ferc.gov.

PART 33—APPLICATION FOR ACQUISITION, SALE, LEASE, OR OTHER DISPOSITION, MERGER OR CONSOLIDATION OF FACILITIES, OR FOR PURCHASE OR ACQUISITION OF SECURITIES OF A PUBLIC UTILITY

37. The authority citation for part 33 is revised to read as follows:

Authority: 16 U.S.C. 791a-825r, 2601-2645; 31 U.S.C. 9701; 42 U.S.C. 7101-7352.

§ 33.6 [Removed]

38. Section 33.6 is removed.

39. In § 33.8, revise the first sentence to read as follows:

§ 33.8 Number of copies.

The applicant must submit the application or petition to the Secretary of the Commission in accordance with filing procedures posted on the Commission's Web site at http://www.ferc.gov.* * *

PART 34—APPLICATION FOR AUTHORIZATION OF THE ISSUANCE OF SECURITIES OR THE ASSUMPTION OF LIABILITIES

40. The authority citation for Part 34 continues to read as follows:

Authority: 16 U.S.C. 791a-825r, 2601-2645; 31 U.S.C. 9701; 42 U.S.C. 7101-7352.

§ 34.3 [Amended]

41. In § 34.3, remove paragraph (k).

42. Section 34.7 is revised to read as follows:

§ 34.7 Filing requirements.

Applications must be filed with the Secretary of the Commission in accordance with filing procedures posted on the Commission's Web site at http://www.ferc.gov.

§ 34.9 [Removed]

43. Remove § 34.9.

§ 34.10 [Redesignated as § 34.9]

44. Section 34.10 is redesignated as § 34.9.

PART 35—FILING OF RATE SCHEDULES AND TARIFFS

45. The authority citation for Part 35 continues to read as follows:

Authority: 16 U.S.C. 791a-825r, 2601-2645; 31 U.S.C. 9701; 42 U.S.C. 7101-7352.

§ 35.0 [Removed]

46-47. Section 35.0 is removed.

§ 35.33 [Amended]

48. In § 35.33, paragraph (c), the phrase “Commission's Library, Room 95-01” is removed and the phrase “Commission” is added in its place. The phrase http://www.archives.gov/federal_register/code_of_federal_regulations/ibr_locations.html is removed and the phrase http://www.archives.gov/federal-register/cfr/ibr-locations.html is added in its place.

PART 39—RULES CONCERNING CERTIFICATION OF THE ELECTRIC RELIABILITY ORGANIZATION; AND PROCEDURES FOR THE ESTABLISHMENT, APPROVAL, AND ENFORCEMENT OF ELECTRIC RELIABILITY STANDARDS

49. The authority citation for Part 39 continues to read as follows:

Authority: 16 U.S.C. 824o.

§ 39.7 [Amended]

50. In § 39.7, paragraph (d)(6) is removed and paragraph (d)(7) is redesignated as paragraph (d)(6).

PART 45—APPLICATION FOR AUTHORITY TO HOLD INTERLOCKING POSITIONS

51. The authority citation for Part 45 continues to read as follows:

Authority: 16 U.S.C. 791a-825r, 2601-2645; 31 U.S.C. 9701; 42 U.S.C. 7101-7352; 3 CFR 142.

52. Section 45.7 is revised to read as follows:

§ 45.7 Form of application; filing procedure.

Applications, supplemental applications, statements of supplemental information, notices of change, and reports should be filed with the Secretary of the Commission in accordance with filing procedures posted on the Commission's Web site at http://www.ferc.gov. Each filing must be dated, signed by the applicant, and verified under oath in accordance with § 385.2005(b) and (c).

53. In § 45.8, the section heading and introductory text are revised to read as follows:

§ 45.8 Contents of application.

Each application shall state the following:

* * * * *

PART 46—PUBLIC UTILITY FILING REQUIREMENTS AND FILING REQUIREMENTS FOR PERSONS HOLDING INTERLOCKING POSITIONS

54. The authority citation for Part 46 is revised to read as follows:

Authority: 16 U.S.C. 792-828c; 16 U.S.C. 2601-2645; 42 U.S.C. 7101-7352; E.O. 12009, 3 CFR 142.

55. In § 46.3, the second sentence of paragraph (a) is revised to read as follows:

§ 46.3 Purchaser list.

(a) * * * The public utility must submit the list to the Secretary of the Commission in accordance with filing procedures posted on the Commission's Web site at http://www.ferc.gov and make the list publicly available through its principal business office.

* * * * *

§ 46.4 [Amended]

56. In § 46.4 introductory text, the phrase “the Office of the Secretary of the Commission a written statement” is removed and the phrase “the Secretary of the Commission a statement” is added in its place.

57. In § 46.6, the section heading is revised and in paragraph (d)(3), the phrase “shall be available to the public during regular business hours through the Commission's Office of Public Information” is removed and the phrase “shall be available to the public through the Commission's eLibrary system on http://www.ferc.gov” is added in its place.

The revision reads as follows:

§ 46.6 Contents of the statement and procedures for filing.

* * * * *

PART 152—APPLICATION FOR EXEMPTION FROM THE PROVISIONS OF THE NATURAL GAS ACT PURSUANT TO SECTION 1(C) THEREOF AND ISSUANCE OF BLANKET CERTIFICATES AUTHORIZING CERTAIN SALES FOR RESALE

58. The authority citation for Part 152 continues to read as follows:

Authority: 15 U.S.C. 717-717w, 3301-3432; 42 U.S.C. 7101-7352.

59. Section 152.2 is revised to read as follows:

§ 152.2 Form of application; service.

The application must be filed with the Secretary of the Commission in accordance with filing procedures posted on the Commission's Web site at http://www.ferc.gov. A copy of the application shall be served on the State Commission which has jurisdiction over the applicant and upon each wholesale customer of the applicant.

60. In § 152.3, the section heading is revised and in the introductory text, the phrase “shall be accompanied by the fee prescribed in part 381 of this chapter or a petition for waiver pursuant to § 381.106 of this chapter and” is removed.

The revision reads as follows:

§ 152.3 Contents of application.

* * * * *

§ 152.5 [Amended]

61. In § 152.5, the phrase “Federal Power Commission” is removed in each of the two places in which it appears and the phrase “Federal Energy Regulatory Commission” is added in both places.

PART 153—APPLICATIONS FOR AUTHORIZATION TO CONSTRUCT, OPERATE, OR MODIFY FACILITIES USED FOR THE EXPORT OR IMPORT OF NATURAL GAS

62. The authority citation for Part 153 continues to read as follows:

Authority: 15 U.S.C. 717b, 717o; E.O. 10485, 3 CFR, 1949-1953 Comp., p. 970, as amended by E.O. 12038, 3 CFR, 1978 Comp., p. 136, DOE Delegation Order No. 0204-112, 49 FR 6684 (February 22, 1984).

63. In § 153.20, paragraph (a) is revised to read as follows:

§ 153.20 General Rule.

(a) Filing procedures. Applications under Subparts B and C must be submitted to the Secretary of the Commission in accordance with filing procedures posted on the Commission's Web site at http://www.ferc.gov.

* * * * *

PART 156—APPLICATIONS FOR ORDERS UNDER SECTION 7(a) OF THE NATURAL GAS ACT

64. The authority citation for Part 156 is revised to read as follows:

Authority: 52 Stat. 824, 829, 830; 56 Stat. 83, 84; 15 U.S.C. 717f, 717f(a), 717n, 717o.

65. In § 156.3, the section heading and paragraph (a) are revised, and in paragraph (b) introductory text, the phrase “shall be accompanied by the fee prescribed in part 159 of this subchapter and” is removed.

The revisions read as follows:

§ 156.3 Applications; general requirements.

(a) Applicable rules. The application must be filed with the Secretary of the Commission in accordance with filing procedures posted on the Commission's Web site at http://www.ferc.gov. In all other respects applications shall conform to the requirements of §§ 156.1 through 156.5. Amendments to or withdrawals of applications shall be filed in accordance with the requirements of §§ 385.213 and 385.214 of this chapter.

* * * * *

PART 157—APPLICATIONS FOR CERTIFICATES OF PUBLIC CONVENIENCE AND NECESSITY AND FOR ORDERS PERMITTING AND APPROVING ABANDONMENT UNDER SECTION 7 OF THE NATURAL GAS ACT

66. The authority citation for Part 157 continues to read as follows:

Authority: 15 U.S.C. 717-717w.

§ 157.6 [Amended]

67. In § 157.6, paragraph (a)(5) is removed and paragraph (a)(6) is redesignated as paragraph (a)(5), and in paragraph (b) introductory text, the phrase “shall be accompanied by the fee prescribed in part 381 of this chapter or a petition for waiver pursuant to § 381.106 of this chapter and” is removed.

PART 385—RULES OF PRACTICE AND PROCEDURE

68. The authority citation for Part 385 continues to read as follows:

Authority: 5 U.S.C. 551-557; 15 U.S.C. 717-717z, 3301-3432; 16 U.S.C. 791a-825v, 2601-2645; 28 U.S.C. 2461; 31 U.S.C. 3701, 9701; 42 U.S.C. 7101-7352, 16441, 16451-16463; 49 U.S.C. 60502; 49 App. U.S.C. 1-85 (1988).

§ 385.1901 [Amended]

69. In § 385.1901, in the address given in paragraph (c)(2), the phrase “Suite 8000, 825 North Capitol Street, NE.” is removed and the phrase “888 First Street, NE.” is added in its place.

70. Section 385.2004 is revised to read as follows:

§ 385.2004 Originals and copies of filings (Rule 2004).

The requirements for making filings under this chapter are posted on the Commission's Web site at http://www.ferc.gov. The requirements cover documents and forms submitted on paper, on electronic media, or via the Commission's electronic filing systems.

§ 385.2012 [Amended]

71. In § 385.2012, the phrase “825 North Capitol Street, NE.” is removed and the phrase “888 First Street, NE.” is added in its place.

PART 388—INFORMATION AND REQUESTS

72. The authority citation for Part 388 continues to read as follows:

Authority: 5 U.S.C. 301-305, 551, 552 (as amended), 553-557; 42 U.S.C. 7101-7352.

73. In § 388.112, paragraph (b) is revised to read as follows:

§ 388.112 Requests for special treatment of documents submitted to the Commission.

* * * * *

(b) Procedures. A person claiming that information warrants special treatment as CEII or privileged must file a statement requesting CEII or privileged treatment for some or all of the information in a document, and the justification for special treatment of the information, in accordance with filing procedures posted on the Commission's Web site at http://www.ferc.gov.

* * * * *

[FR Doc. 2010-17561 Filed 7-23-10; 8:45 am]

BILLING CODE 6717-01-P